DEPARTMENT OF DEFENSE

Office of the Secretary

[Docket ID: DoD-2008-OS-0072]

U.S. Court of Appeals for the Armed Forces Proposed Rules Change

ACTION: Notice of Proposed Change to the Rules of Practice and Procedure of the United States Court of Appeals for the Armed Forces.

SUMMARY: This notice announces the following proposed change to Rule 21(f) of the Rules of Practice and Procedure, United States Court of Appeals for the Armed Forces for public notice and comment. New language is in bold print. Language to be removed is within brackets.

DATES: Comments on the proposed change must be received within 30 days of the date of this notice.

ADDRESSES: You may submit comments, identified by docket number and/or Regulatory Information Number (RIN) and title by any of the following methods:

• Federal eRulemaking Portal: http://www.regulations.gov. Follow the instructions for submitting comments.

• Mail: Federal Docket Management System Office, 1160 Defense Pentagon, Washington, DC 20301-1160.

Instructions: All submissions received must include the agency name and docket number or RIN for this Federal Register document. The general policy for comments and other submissions from members of the public is to make these submissions available for public viewing on the Internet at http://regulations.gov as they are received without change, including personal identifiers or contact information.

FOR FURTHER INFORMATION CONTACT: William A. DeCicco, Clerk of the Court, telephone (202) 761-1448.

Dated: June 16, 2008.
Patricia L. Toppings,
OSD Federal Liaison Officer, DoD.

Rule 21 (a)-(e) unchanged.

(f) [An appellant or counsel for an appellant may move to withdraw his petition at any time. See Rule 30.]

(f) An appellant or counsel for an appellant may move to withdraw his petition at any time by filing a motion pursuant to Rule 30. Such a motion shall substantially comply with the requirements of Rule for Courts-Martial 1110, and be accompanied by a written request for withdrawal that includes the following:

(1) A statement that the appellant and counsel for the appellant have discussed the appellant's right to appellate review, the effect of withdrawal, and that the appellant understands these matters;

(2) A statement that the motion to withdraw the petition is submitted voluntarily and cannot be revoked; and

(3) The signatures of the appellant and counsel for the appellant.

Comment: The requirements for submitting a motion to withdraw a petition for grant of review should be changed to ensure that the appellant is personally aware of the motion and that it is submitted voluntarily with full knowledge of its meaning and effect.

[FR Doc. E8-13997 Filed 6-19-08; 8:45 am]

BILLING CODE 5001-06-P